FEDERAL COMMUNICATIONS COMMISSION

Federal Advisory Committee Act; Advisory Committee on Diversity for Communications in the Digital Age

AGENCY: Federal Communications Commission.

ACTION: Notice of public meeting.

SUMMARY: In accordance with the Federal Advisory Committee Act, this notice advises interested persons that the Federal Communications Commission's (FCC) Advisory Committee on Diversity for Communications in the Digital Age (“Diversity Committee”) will hold a meeting at 10 a.m. in the Commission Meeting Room of the Federal Communications Commission, Room TW-C305, 445 12th Street, SW., Washington, DC 20554. This will be the second meeting of the full Diversity Committee under its renewed charter and new membership.

DATES: September 22, 2009.

ADDRESSES: Federal Communications Commission, Room TW-C305 (Commission Meeting Room), 445 12th Street, SW., Washington, DC 20554.

FOR FURTHER INFORMATION CONTACT: Barbara Kreisman, 202-418-1605; Barbara.Kreisman@FCC.gov.

SUPPLEMENTARY INFORMATION: At this meeting the Media, Telecom and Broadband, and Constitutional Issues working groups will each present a status report as to the matters they are considering. A formal recommendation from one of the groups may be proposed.

Members of the general public may attend the meeting. The FCC will attempt to accommodate as many people as possible. However, admittance will be limited to seating availability. The public may submit written comments before the meeting to: Barbara Kreisman, the FCC's Designated Federal Officer for the Diversity Committee, by email: Barbara.Kreisman@fcc.gov or U.S. Postal Service Mail (Barbara Kreisman, Federal Communications Commission, Room 2-A665, 445 12th Street, SW., Washington, DC 20554).

Open captioning will be provided for this event. Other reasonable accommodations for people with disabilities are available upon request. Requests for such accommodations should be submitted via e-mail to fcc504@fcc.gov or by calling the Consumer & Governmental Affairs Bureau at (202) 418-0530 (voice), (202) 418-0432 (tty). Such requests should include a detailed description of the accommodation needed. In addition, please include a way we can contact you if we need more information. Please allow at least five days advance notice; last minute requests will be accepted, but may be impossible to fill.

Additional information regarding the Diversity Committee can be found at http://www.fcc.gov/DiversityFAC.

Federal Communications Commission.
Barbara A. Kreisman,
Chief, Video Division, Media Bureau.

[FR Doc. E9-19345 Filed 8-11-09; 8:45 am]

BILLING CODE 6712-01-P